DEPARTMENT OF ENERGY

Federal Energy Regulatory Commission

[Docket No. RP03-343-001]

Northern Natural Gas Company; Notice Of Compliance Filing

November 14, 2003.

Take notice that on November 10, 2003, Northern Natural Gas Company (Northern), tendered for filing as part of its FERC Gas Tariff, Fifth Revised Volume No. 1, the following tariff sheets, with an effective date of October 14, 2003:

Substitute Seventh Revised Sheet No. 252

Substitute Third Revised Sheet No. 253

Substitute First Revised Sheet No. 253A

Northern states that the filing is being made in compliance with the Commission's Order issued on October 10, 2003 in this proceeding.

Northern further states that copies of the filing have been mailed to each of its customers and interested State Commissions.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E3-00348 Filed 11-20-03; 8:45 am]

BILLING CODE 6717-01-P